ENVIRONMENTAL PROTECTION AGENCY

[ER-FRL-8994-4]

Environmental Impacts Statements; Notice of Availability

Responsible Agency: Office of Federal Activities, General Information (202) 564-1399 or http://www.epa.gov/compliance/nepa/.

Weekly receipt of Environmental Impact Statements Filed 12/20/2010 Through 12/23/2010

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20100481, Draft EIS, FERC, CA,Eagle Mountain Pumped Storage Hydroelectric Project, Licensing Application for Eagle Mountain Mine, near the town of Desert Center, Riverside County, CA, Comment Period Ends: 02/14/2011, Contact: Kenneth Hogan 202-502-8434.

Amended Notices

EIS No. 20100449, Draft EIS, USFS, MT, Stillwater Mining Revised Water Management Plans and BOE Ranch LAD, Implementation, Stillwater and Nye Counties, MT, Comment Period Ends: 02/24/2011, Contact: Patrick Pierson 406-657-6200 Ext. 213.

Revision to FR Notice Published 11/26/2010: Extending Comment Period from 01/10/2011 to 02/24/2011.

Dated: December 27, 2010.
Ken Mittelholtz,
Deputy Director, NEPA Compliance Division, Office of Federal Activities.

[FR Doc. 2010-32976 Filed 12-29-10; 8:45 am]

BILLING CODE 6560-50-P